EQUAL EMPLOYMENT OPPORTUNITY COMMISSION

Notice of Sunshine Act Meeting

FEDERAL REGISTER CITATION OF PREVIOUS ANNOUNCEMENT: 72 FR 10530, Thursday, March 8, 2007.

PREVIOUSLY ANNOUNCED TIME AND DATE OF MEETING: Thursday, March 15, 2007, 1 p.m. (Eastern Time).

CHANGE IN THE MEETING: The meeting has been cancelled.

CONTACT PERSON FOR MORE INFORMATION: Stephen Llewellyn, Acting Executive Officer on (202) 663-4070.

Dated: March 15, 2007.
Stephen Llewellyn,
Acting Executive Officer, Executive Seretariat.

[FR Doc. 07-1340 Filed 3-15-07; 2:53 pm]

BILLING CODE 6570-06-M